DEPARTMENT OF THE INTERIOR

Bureau of Land Management

[CO-200-0777-XZ-241A]

Notice of Meeting, Front Range Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held May 20-21, 2008 from 10:30 a.m. to 5 p.m. May 20, 2008 and from 8 a.m. to 3 p.m. May 21, 2008.

ADDRESSES: St. Agnes Catholic Church Meeting Hall, Hwy. 285 and 5th Street, Saguache, Colorado 81149.

FOR FURTHER INFORMATION CONTACT: Andrew Archuleta, Saguache Field Office Manager, (719) 655-2547.

SUPPLEMENTARY INFORMATION: The 15 member Council advises the Secretary of the Interior, through the Bureau of Land Management, on a variety of planning and management issues associated with public land management in the Royal Gorge Field Office and San Luis Valley, Colorado. Planned agenda topics include: Manager updates on current land management issues including; presentations and discussions on the oil and gas leases in San Luis Valley, alternative energy proposals in San Luis Valley, Term Permit Renewals—status and progress on May 20. On May 21 agenda topics include a field trip to Penitente Canyon Special Recreation Management Area, La Garita Wetlands and Grazing Allotment, Elephant Rocks Area of Critical Environmental Concern. After lunch topics will include the Anderson Ditch update, public comments, and the Kerber Creek Restoration. All meetings are open to the public. The public is encouraged to make oral comments to the Council or written statements may be submitted for the Council's consideration. Depending on the number of persons wishing to comment and time available, the time for individual oral comments may be limited. Summary minutes for the Council Meeting will be maintained in the USDI-BLM-Royal Gorge Field Office and will be available for public inspection and reproduction during regular business hours within thirty (30) days following the meeting. Meeting minutes and agenda (10 days prior to each meeting) are also available at: http://www.blm.gov/rac/co/frrac/co_fr.htm.

Dated: April 14, 2008.
Linda McGlothlen,
Acting Royal Gorge Field Manager.

[FR Doc. E8-8667 Filed 4-21-08; 8:45 am]

BILLING CODE 4310-JB-P